DEPARTMENT OF TRANSPORTATION

Maritime Administration

[Docket Number: MARAD-2000-7146]

Requested Administrative Waiver of the Coastwise Trade Laws

AGENCY: Maritime Administration, Department of Transportation.

ACTION: Invitation for public comments on a requested administrative waiver of the Coastwise Trade Laws for the Vessel A QUIT-ALL.

SUMMARY: As authorized by Public Law 105-383, the Secretary of Transportation, as represented by the Maritime Administration (MARAD), is authorized to grant waivers of the U.S. build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Public Law 105-383 and MARAD's regulations at 46 CFR 388 (65 FR 6905; February 11, 2000) that the issuance of the waiver will have an unduly adverse effect on a U.S.-vessel builder or a business that uses U.S.-flag vessels, a waiver will not be granted.

DATES: Submit comments on or before May 3, 2000.

ADDRESSES: Comments should refer to docket number MARAD-2000-7146. Written comments may be submitted by hand or by mail to the Docket Clerk, U.S. DOT Dockets, Room PL-401, Department of Transportation, 400 7th St., S.W., Washington, D.C. 20590-0001. You may also send comments electronically via the Internet at http://dmses.dot.gov/submit/. All comments will become part of this docket and will be available for inspection and copying at the above address between 10 a.m. and 5 p.m., E.T., Monday through Friday, except federal holidays. An electronic version of this document and all documents entered into this docket is available on the World Wide Web at http://dms.dot.gov.

FOR FURTHER INFORMATION CONTACT: Michael Hokana, U.S. Department of Transportation, Maritime Administration, MAR 832 Room 7201, 400 Seventh Street, SW, Washington, DC 20590. Telephone 202-366-0760.

SUPPLEMENTARY INFORMATION: Title V of Pub.L. 105-383 provides authority to the Secretary of Transportation to administratively waive the U.S.-build requirements of the Jones Act, and other statutes, for small commercial passenger vessels (less than 12 passengers). This authority has been delegated to the Maritime Administration per 49 CFR 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commentor's interest in the waiver application, and address the waiver criteria given in § 388.4 of MARAD'S regulations at 46 CFR 388.

Vessel Proposed for Waiver of the U.S.-Build Requirement

(1) Name of vessel and owner for which waiver is requested. Name: A QUIT-ALL, owner: Pescado Rentado, Inc., a Florida corporation (incorporated 1979).

(2) Size, capacity and tonnage of vessel: Length Overall: 44′, Tonnage: Gross 33, Net 26 (Pursuant to Coast Guard Document #528959).

(3) Intended use for vessel, including geographic region of intended operation and trade. According to the applicant: “Sportfishing charter from Jupiter Inlet south to Key West and adjacent waters.”

(4) Date and place of construction and (if applicable) rebuilding. Date of construction: 1980. Place of original construction: Norway.

(5) A statement on the impact this waiver will have on other commercial passenger vessel operators. According to the applicant: “This waiver will not have an impact on other commercial passenger vessel operators who offer offshore sportfishing/cruising charters. There are approximately 40 sportfishing charter services which advertise regularly in the Southern Bell Telephone Yellow Pages, for the Greater Miami area. Existing offshore sportfishing charter boats charge between $350.00 (half-day) to $750.00 (full day). This requested waiver will compliment existing offshore charter operations, as the intent is to focus on obtaining longer than one-day charters, including overnight stays and entertaining on the vessel.

The Greater Miami/Fort Lauderdale area continues to have significant tourist, family vacation, and convention business. Granting this administrative waiver will enable the commercial sport fishing industry to better meet the demands of tourists as it expands even more rapidly. This waiver will also create U.S. jobs: 1 boat captain, 1 mate and several (at least part time) support staff from clerical to boat cleaners. In addition, being able to put this vessel into charter sport fishing will require weekly expenditure for bait, tackle, supplies and products necessary to run and maintain a high quality charter operation. Overall, the local economy will be helped by the granting of this waiver.”

(6) A statement on the impact this waiver will have on U.S. shipyards. According to the applicant: “This waiver will have no negative impact on U.S. Shipyards. There is no comparable sportfishing vessel (44′ Aluminum Hull) currently being manufactured and applicant is unaware of any plans for similar production within the United States.

All future repairs, improvements and upgrades will continue to be undertaken at U.S. (South Florida) shipyards and marinas. Consequently, this vessel will continue to have a positive effect on South Florida (Fort Lauderdale/Miami area) shipyards for routine maintenance and twice-yearly bottom painting, in addition to future refurbishing and refitting. Once in charter use as a working sport fisherman, monthly—if not weekly—maintenance and repairs will become necessary, hence local area shipyards and marinas will benefit.”

Dated: March 28, 2000.
By Order of the Maritime Administrator.
Edmund T. Sommer, Jr.,
Acting Secretary, Maritime Administration.

[FR Doc. 00-8131 Filed 3-31-00; 8:45 am]

BILLING CODE 4910-81-P